ENVIRONMENTAL PROTECTION AGENCY

40 CFR Part 70

[MT-001; FRL-6847-9]

Withdrawal of Direct Final Rule on Operating Permit Program; State of Montana

AGENCY: Environmental Protection Agency (EPA).

ACTION: Withdrawal of Direct Final Rule.

SUMMARY: Due to adverse comments, EPA is withdrawing the direct final rule published in the Federal Register on June 13, 2000 (65 FR 37049) promulgating full approval of the operating permit program submitted by the State of Montana for the purpose of complying with federal requirements which mandate that states develop, and submit to EPA, programs for issuign operating permits to all major stationary sources, and to certain other sources. As stated in the Federal Register document if EPA receives adverse comment by July 13, 2000, EPA will publish a timely withdrawal of the direct final rule and inform the public that the rule will not take effect on August 14, 2000. Therefore, due to receiving the final rule (which will delay the effective date of the Montana operating permit program) and will address all public comments received in a subsequent final rule based on the proposed rule also published on June 13, 2000 (65 FR 37091). EPA will not institute a second comment period on this document.

DATES: The direct final rule, published on June 13, 2000 (65 FR 37049), is withdrawn as of August 8, 2000.

FOR FURTHER INFORMATION CONTACT: Patricia Reisbeck, Air and Radiation Program 8P-AR, Environmental Protection Agency, Region 8, 999 18th Street, Suite 500, Denver, Colorado 80202, (303) 312-6435.

SUPPLEMENTARY INFORMATION: On June 13, 2000, EPA published a direct final rule (65 FR 37049) and a parallel proposal (65 FR 37091) to grant full approval of 40 CFR part 70 Montana operating permit program. The purpose of this action was to grant full authority to the State of Montana to meet the federal Clean Air Act directive that states develop, and submit to EPA, programs for issuing operating permits to all major stationary sources and to certain other sources within the states' jurisdiction.

The EPA stated in the direct final rule (65 FR 37049) that if adverse comments were received by July 13, 2000, EPA would publish a notice to withdraw the direct final rule before its effective date of August 14, 2000. The EPA received an adverse comment on the direct final rule and, therefore, is withdrawing the direct final rulemaking action. The adverse commenter stated concern that the program would not adequately protect public health and the environment. The EPA will address the specific comments in a subsequent final action.

Dated: August 1, 2000.
Rebecca W. Hanmer,
Acting Regional Administrator, VIII.

[FR Doc. 00-20025 Filed 8-7-00; 8:45 am]

BILLING CODE 6560-50-M